TWENTY-FIRST CENTURY WORKFORCE COMMISSION

Notice of Public Information Hearing

AGENCY: Twenty-First Century Workforce Commission.

ACTION: Notice of public information hearing.

SUMMARY: This notice is to announce a public information hearing on Wednesday, March 29, 2000. Members of the public are invited to attend the hearing. Several witnesses have been invited by the Commissioners to testify and to address the questions identified by the agenda set forth below.

The purpose of the hearing is for Commissioners to learn how Northern Virginia companies, educational institutions, community organizations, and governments are working together so more of its residents gain the skills and knowledge necessary to be part of the Information Technology (IT) workforce.

DATES: The Public Information Hearing will be held on Wednesday, March 29, 2000, from 9:00 am to approximately 4:00 p.m. Registration is from 9:00 am to 10:00 am. The dates, locations and times for subsequent meetings will be announced in advance in the Federal Register.

ADDRESSES: George Mason University, Fairfax Campus is located at 4400 University Drive, Fairfax, VA 22030. Main Phone: (703) 993-1000. The hearing will be held at the Egan Research building. For information, call (617) 373-2000. (TTY) (617) 373-3768. Web-based directions can be found at: http://coyote.gmu.edu/map/. All interested parties are invited to attend this Information Hearing. Seating may be limited and will be available on a first-come, first-serve basis.

FOR FURTHER INFORMATION CONTACT: Mr. Hans Meeder, Executive Director, Twenty-First Century Workforce Commission, 1201 New York Avenue, NW, Suite 700, Washington, DC 20005. (Telephone (202-289-2939. TTY (202) 289-2977) These are not toll-free numbers. Email: Workforce21@nab.com.

SUPPLEMENTARY INFORMATION: Establishment of the Twenty-First Century Workforce Commission was mandated by Subtitle C of Title III of the Workforce Investment Act, Sec. 331 of Pub. L. 105-220, 112 Stat. 1087-1091, (29 U.S.C. 2701 note), signed into law on August 7, 1998. The 15 voting member Twenty-First Century Workforce Commission is charged with studying all aspects of the information technology workforce in the United States. Notice is hereby given of the second Public Information Hearing of the Twenty-First Century Workforce Commission.

The Workforce Investment Act (Pub. L. 105-220), signed into law on August 7, 1998, established the Twenty-First Century Workforce Commission. The Commission is charged with carrying out a study of the information technology workforce in the U.S., including the examination of the following issues:

1. What skills are currently required to enter the information technology workforce? What technical skills will be demanded in the near future?

2. How can the United States expand its number of skilled information technology workers?

3. How do information technology education programs in the United States compare with other countries in effectively training information technology workers? [The Commission study should place particular emphasis upon contrasting secondary, non-and-post-baccalaureate degree education programs available within the U.S. and foreign countries.]

The Workforce Investment Act directs the Commission to issue recommendations to the President and Congress within six months. The Commission first met on November 16, 1999, and will issue its recommendations by May 16, 2000.

AGENDA: At the Fairfax, Virginia hearing, the Commission working group conducting the hearing will emphasize the following issues: (1) How will information technology advances continue to change Northern Virginia's economy in coming years, and what skills will individuals need to participate in the IT workforce? (2) How are Northern Virginia companies, educational institutions, community organizations, state and local governments partnering to provide educational and training opportunities for individuals who want to enter the IT workforce? (3) What particular barriers face Northern Virginia in building and strengthening the IT workforce, and how are under-represented populations being reached for participation in the IT workforce?

COMMISSION MEMBERSHIP: The Workforce Investment Act mandates that 15 voting members be appointed by the President, Majority Leader of the Senate, and Speaker of the House (5 members each), including 3 educators, 3 state and local government representatives, 8 business representatives and 1 labor representative. The Act also mandates that the President appoint 2 ex-officio members, one each from the Departments of Labor and Education.

The Commissioners are: Chairman Lawrence Perlman, Ceridian Corporation, Minneapolis, MN; Vice Chair, Katherine K. Clark, Landmark Systems Corporation, Reston, VA; Susan Auld, Capitol Strategies, Ltd., Montpelier, VT; Morton Bahr, Communication Workers of America, Washington, DC; Patricia Gallup, PC Communications, Inc., Merrimack, NH; Dr. Bobby Garvin, Mississippi Delta Community College, Moorhead, MS; Susan M. Green (ex officio), U.S. Department of Labor, Washington, DC; Randel Johnson, U.S. Chamber of Commerce, Washington, DC; Roger Knutsen, National Council for Higher Education, Auburn, WA; Patricia McNeil (ex officio), U.S. Department of Education, Washington, DC; The Honorable Mark Morial, Mayor, City of New Orleans, LA; Thomas Murrin, Duquesne University, Pittsburgh, PA; Leo Reynolds, Electronic Systems, Inc., Sioux Falls, SD; The Honorable Frank Riggs, National Homebuilders Institute, Washington, DC; The Honorable Frank Roberts, Mayor, City of Lancaster, California; Kenneth Saxe, Stambaugh-Ness, York, PA; David L. Steward, World Wide Technology, Inc., St. Louis, MO; Hans K. Meeder, Executive Director, Washington, DC.

PUBLIC PARTICIPATION: Members of the public are invited to attend this hearing. Several witnesses have been invited to testify by the Commissioners to address the questions identified on the Agenda. In addition, members of the public wishing to present oral statements to the Twenty-First Century Workforce Commission should forward their requests to Mr. Hans Meeder, Executive Director, as soon as possible and at least four days before the meeting. Requests should be made by email, fax machine, or telephone, as shown above.

Time permitting, the Commissioners will attempt to accommodate requests for oral presentations. Each member of the public who is selected to testify will be allotted a three minute period to present their oral remarks. Members of the public must limit oral statements to three minutes, but extended written statements may be submitted for the record. Members of the public may also submit written statements for distribution to the Commissioners and inclusion in the public record without presenting oral statements. Such written statements should be sent to Mr. Hans Meeder, as shown above, or may be submitted at the hearing site.

The Commission has established a web site, www.workforce21.org. Any written comments regarding documents published on this web site should be directed to Mr. Hans Meeder, as shown above.

SPECIAL ACCOMMODATIONS: Reasonable accommodations will be available. Persons needing any special assistance such as sign language interpretation, or other special accommodation, are invited to contact Mr. Hans Meeder, as shown above. Requests for accommodations must be made four days in advance of the hearing.

Due to difficulties of scheduling the members we are unable to provide a full 15-day advance notice of this meeting.

Signed at Washington, DC this 16th day of March, 2000.
Hans K. Meeder,
Executive Director, Twenty-First Century Workforce Commission.

[FR Doc. 00-7114 Filed 3-21-00; 8:45 am]

BILLING CODE 4510-23-P